U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC, on March 19, 2021, on “U.S. Investment in China's Capital Markets and Military-Industrial Complex.”

DATES: The hearing is scheduled for Friday, March 19, 2021, 9:15 a.m.

ADDRESSES: This hearing will be held with panelists and Commissioners participating in-person or online via videoconference. Members of the audience will be able to view a live webcast via the Commission's website at www.uscc.gov. Also, please check the Commission's website for possible changes to the hearing schedule. Reservations are not required to attend the hearing.

FOR FURTHER INFORMATION CONTACT: Any member of the public seeking further information concerning the hearing should contact Jameson Cunningham, 444 North Capitol Street NW, Suite 602, Washington DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION: Background: This is the third public hearing the Commission will hold during its 2021 report cycle. The hearing will examine the Chinese government's use of capital markets to advance its technology and defense capabilities and evaluate the risks of U.S. investors' capital being leveraged for such ends. The opening panel will examine the evolving role of the state in China's capital markets, including the Chinese Communist Party's involvement in corporate governance. The second panel will review China's financial opening and U.S. and foreign investor participation in China's capital markets. The third panel will assess U.S. national security risks posed by investment in Chinese companies. The fourth panel will evaluate U.S. legal authority and current restrictions on outbound investment to China's capital markets.

The hearing will be co-chaired by Commissioner Robert Borochoff and Commissioner Jeffrey Fiedler. Any interested party may file a written statement by March 19, 2021 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: March 1, 2021.
Daniel W. Peck,
Executive Director, U.S.-China Economic and Security Review Commission.

[FR Doc. 2021-04507 Filed 3-3-21; 8:45 am]

BILLING CODE 1137-00-P